DEPARTMENT OF DEFENSE

Office of the Secretary; Proposed new Collection; Comment Request

AGENCY: DoD, Office of the Assistant Secretary of Defense for Health Affairs/TMA.

ACTION: Notice.

SUMMARY: In accordance with section 3506 (c)(2)(A) of the Paperwork Reduction Act of 1995, the Office of the Assistant Secretary of Defense for Health Affairs/TMA announces proposed new public information collection and seeks public comment on the provisions thereof. Comments are invited on: (a) Whether the proposed new collection of information is necessary for the proper performance of the functions of the agency, including whether the information shall have practical utility; (b) the accuracy of the agency's estimate of the burden of the information collection; (c) ways to enhance the quality, utility, and clarity of the information to be collected; and (d) ways to minimize the burden of the information collection on respondents, including through the use of automated collection techniques or other forms of information technology.

DATES: Consideration will be given to all comments received by May 2, 2000.

ADDRESSES: Written comments and recommendations on the information collection should be sent to the Office of the Assistant Secretary of Defense (Health Affairs) TRICARE Management Activity, Skyline Five, suite 810, 5111 Leesburg Pike, Falls Church, Virginia 22041-3206. Attention: Captain Charles Hostettler.

FOR FURTHER INFORMATION CONTACT: To request more information on this proposed information collection, please write to the above address or call CAPT Charles Hostettler, Office of the Assistant Secretary of Defense (Health Affairs), TRICARE Management Activity, (703) 681-1740.

Title; Associated Form; and OMB Number: TRICARE Pharmacy Redesign Pilot Program Enrollment Application Form X407.

Needs and Uses: The collection instrument serves as an application form for enrollment in the TRICARE Pharmacy Redesign Pilot Program. The information collected will be used to provide the Managed Care Support Contractors, contracted to supply administrative support, with the data to determine beneficiary eligibility, other health insurance liability, and premium payment.

Affected Public: Individuals or household.

Annual Burden Hours: 333.

Number of Respondents: 2,000.

Responses Per Respondent: 1.

Average Burden Per Response: 10 minutes.

Frequency: On occasion.

SUPPLEMENTARY INFORMATION:

A. Background

In June 1998, the General Accounting Office (GAO) testified before the Subcommittee on Military Personnel, Committee on Armed Services, House of Representatives, that over the past several years, concern about the costs and quality of DoD's pharmacy benefit has surfaced. GAO recommended that DoD establish a more system-wide approach to managing its pharmacy benefit by establishing a uniform, incentive-based formulary across its pharmacy programs. Furthermore, GAO recommended that a system-wide pharmacy benefit be granted to Medicare-eligible retirees who are excluded from the contractor retail network and NMOP pharmacy systems.

In response to the June 1998 GAO report, the FY 1999 Strom Thurmond National Defense Authorization Act for fiscal Year 1999 for Fiscal year 1999 (P.L. 105-261) directed DoD to develop a system-wide pharmacy redesign plan and to implement the system-wide redesigned benefit at two sites for Medicare-eligible beneficiaries.

An eligible beneficiary for the pharmacy redesign demonstration is a member or former member of the uniformed services as described in section 1074(b) of title 10; a dependent of the member described in section 1076(a)(2)(B) or 1076(b) of title 10; or a dependent of a member of the uniformed services who died while on active duty for a period of more than 30 days, who meets the following requirements: (a) 65 years of age or older, (b) entitled to Medicare Part A, (c) enrolled in Medicare part B, and (d) resides in an implementation area.

The pharmacy redesign implantation will be evaluated by an independent entity outside the Department of Defense. The evaluation shall include: (a) An analysis of the cost of the pharmacy redesign implementation under TRICARE, and also to the eligible individuals who participate in the demonstration, (b) an assessment of the eligible beneficiaries' satisfaction with the redesigned pharmacy benefit, (c) an assessment of the effect, if any, on military medical readiness, (d) a description of the rate of participation, and (e) an evaluation of any other matters that the Department considers appropriate.

The DoD component responsible for the conduct of the project is the TRICARE Management Activity.

Dated: February 28, 2000.
Patricia Toppings,
Alternate OSD Federal Register Liaison Officer, Department of Defense.

[FR Doc. 00-5090 Filed 3-2-00; 8:45am]

BILLING CODE 5001-10-M